DEPARTMENT OF COMMERCE

National Oceanic and Atmospheric Administration

RIN 0648-AW65

Atlantic Highly Migratory Species; Atlantic Shark Management Measures

AGENCY: National Marine Fisheries Service (NMFS), National Oceanic and Atmospheric Administration (NOAA), Commerce.

ACTION: Changing the time and location of a scoping meeting.

SUMMARY: NMFS has changed the time and location of the Small Coastal Shark (SCS) Amendment 3 scoping meeting that was scheduled to be held in Gloucester, MA, on October 9, 2008. The list of all scheduled scoping meetings was previously published on July 2, 2008 (73 FR 37932).

DATES: The new time will be from 5:30 p.m. to 7:30 p.m. on October 9, 2008. See ADDRESSES for information on the change of location.

ADDRESSES: The new location of the meeting will be at the Peabody Institute Library, 82 Main Street, Peabody, MA, 01960.

FOR FURTHER INFORMATION CONTACT: Jess Beck at (301) 713-2347 or Jackie Wilson at (240) 338-3936.

SUPPLEMENTARY INFORMATION: The Atlantic shark fisheries are managed under the authority of the Magnuson-Stevens Fishery Conservation and Management Act (Magnuson-Stevens Act). The 2006 Consolidated Highly Migratory Species Fishery Management Plan (HMS FMP) is implemented by regulations at 50 CFR part 635.

On May 7, 2008 (73 FR 25665), NMFS published a Notice of Intent (NOI) that summarized the 2007 SCS stock assessment conducted for Atlantic sharpnose, blacknose, bonnethead, and finetooth sharks. The NOI also described NMFS' determination as to the status of these stocks based on the results of the 2007 stock assessment, including the determination that blacknose sharks are overfished with overfishing occurring. As a result of this determination, NMFS is taking steps to amend current shark management measures via a third FMP amendment to the 2006 Consolidated HMS FMP. NMFS anticipates completing this amendment and any related documents by January 1, 2010. The comment period for the NOI has been extended (73 FR 37932, July 2, 2008) and now ends at 5 p.m. on October 31, 2008. On July 2, 2008, NMFS also announced the availability of an issues and options presentation describing potential measures for inclusion in Amendment 3 to the 2006 Consolidated HMS FMP.

Request for Comments

Four scoping meetings have been scheduled to provide the opportunity for public comment on potential SCS shark management measures. NMFS has changed the time and location of the scoping meeting that was scheduled to be held in Gloucester, MA, on October 9, 2008. This meeting will now be held from 5:30 p.m. to 7:30 p.m. at the Peabody Institute Library, 82 Main Street, Peabody, MA, 01960. The schedule for the other scoping meetings remains unchanged.

In addition to the scheduled scoping meetings, NMFS will also present the issues and options presentation to the five Atlantic Regional Fishery Management Councils and the Atlantic and Gulf States Marine Fisheries Commissions during the public comment period. Please see the Councils' and Commissions' summer and fall meeting notices for dates, times, and locations. Finally, NMFS also expects to present the issues and options presentation at the fall 2008 HMS Advisory Panel (AP) meeting. The date and location of the AP meeting will be announced in a future Federal Register notice.

Comments received on this action will assist NMFS in determining the options for rulemaking to conserve and manage shark resources and fisheries, consistent with the Magnuson-Stevens Act and the 2006 Consolidated HMS FMP.

Scoping Meetings Code of Conduct

The public is reminded that NMFS expects participants at the scoping meetings to conduct themselves appropriately. At the beginning of each meeting, a representative of NMFS will explain the ground rules (e.g., alcohol is prohibited from the meeting room; attendees will be called to give their comments in the order in which they registered to speak; each attendee will have an equal amount of time to speak; attendees may not interrupt one another, etc.). The NMFS representative will structure the meeting so that all attending members of the public will be able to comment, if they so choose. Attendees are expected to respect the ground rules, and those that do not will be asked to leave the meeting.

Special Accommodations

The meetings are physically accessible to people with disabilities. Requests for sign language interpretation or other auxiliary aids should be directed to Jess Beck (see FOR FURTHER INFORMATION CONTACT) at least 7 days prior to the meeting.

Dated: September 10, 2008.
James P. Burgess,
Acting Director, Office of Sustainable Fisheries, National Marine Fisheries Service.

[FR Doc. E8-21779 Filed 9-16-08; 8:45 am]

BILLING CODE 3510-22-S